DEPARTMENT OF THE INTERIOR

National Park Service

[N6868; NPS-WASO-NAGPRA-NPS0041856; PPWOCRADN0-PCU00RP14.R50000]

Notice of Intended Repatriation: University of Pennsylvania Museum of Archaeology and Anthropology, Philadelphia, PA

AGENCY: National Park Service, Interior.

ACTION: Notice.

SUMMARY: In accordance with the Native American Graves Protection and Repatriation Act (NAGPRA), the University of Pennsylvania Museum of Archaeology and Anthropology (Penn Museum) intends to repatriate a certain cultural item that meets the definition of a sacred object and that has a cultural affiliation with the Indian Tribes or Native Hawaiian organizations in this notice.

DATES: Repatriation of the cultural item in this notice may occur on or after February 17, 2026.

ADDRESSES: Send additional, written requests for repatriation of the cultural item in this notice to Dr. Christopher Woods, Williams Director, University of Pennsylvania Museum of Archaeology and Anthropology, 3260 South Street, Philadelphia, PA 19104-6324, email director@pennmuseum.org.

SUPPLEMENTARY INFORMATION: This notice is published as part of the National Park Service's administrative responsibilities under NAGPRA. The determinations in this notice are the sole responsibility of the Penn Museum, and additional information on the determinations in this notice, including the results of consultation, can be found in the summary or related records. The National Park Service is not responsible for the determinations in this notice.

Abstract of Information Available

A total of one cultural item has been requested for repatriation. The one sacred object is a carved wooden figure known as a ki'i akua (god image). The figure, believed to depict Chief Kūali'i, was unearthed in 1873 while digging a well on the property of Alexander Adams, near an ancient heiau (temple) in Kalihi Valley on the island of O'ahu, Hawai'i. Adams (1780-1871) served as an advisor and friend to King Kamehameha I of Hawaii (ca. 1758-1819).

News of the discovery was subsequently reported in an English-language newspaper on October 11, 1873, and in a Hawaiian-language newspaper on October 15, 1873. According to newspaper accounts, the wooden figure was given to an American associated with the U.S. naval ship Portsmouth. Historical documentation suggests Dr. William Henry Jones, a medical surgeon with the U.S. Navy assigned to the ship at the time, was the likely recipient. In 1878, Jones donated the item to the Academy of Natural Sciences of Philadelphia (ANSP). The ANSP transferred the figure to the Penn Museum on loan in 1936, and it was formally gifted in 1997 (PM# 97-120-465). There is no known presence of any hazardous substances.

Determinations

The Penn Museum has determined that:

• The one sacred object described in this notice is a specific ceremonial object needed by a traditional Native American religious leader for present-day adherents to practice traditional Native American religion, according to the Native American traditional knowledge of a lineal descendant, Indian Tribe, or Native Hawaiian organization.

• There is a connection between the cultural item described in this notice and the Hui Iwi Kuamo'o.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after February 17, 2026. If competing requests for repatriation are received, the Penn Museum must determine the most appropriate requestor prior to repatriation. Requests for joint repatriation of the cultural item are considered a single request and not competing requests. The Penn Museum is responsible for sending a copy of this notice to the Indian Tribes and Native Hawaiian organizations identified in this notice and to any other consulting parties.

Authority: Native American Graves Protection and Repatriation Act, 25 U.S.C. 3004 and the implementing regulations, 43 CFR 10.9.

Dated: January 9, 2026.
Melanie O'Brien,
Manager, National NAGPRA Program.

[FR Doc. 2026-00858 Filed 1-15-26; 8:45 am]

BILLING CODE 4312-52-P